DEPARTMENT OF COMMERCE

Census Bureau

Agency Information Collection Activities; Submission to the Office of Management and Budget (OMB) for Review and Approval; Comment Request; Survey of Housing Starts, Sales, and Completions

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on August 3, 2023, during a 60-day comment period. This notice allows for an additional 30 days for public comments.

Agency: U.S. Census Bureau, Department of Commerce.

Title: Survey of Housing Starts, Sales, and Completions.

OMB Control Number: 0607-0110

Form Number(s): SOC-QI/SF.1 and SOC-QI/MF.1.

Type of Request: Regular submission, request for an extension, without change, of a currently approved collection.

Number of Respondents: We collect data for approximately 21,363 new buildings a year. A builder or owner may be contacted several times based on how long the construction project takes. We estimate the average number of times we need to contact the builder or owner is between 7 and 8 times. The total number of responses annually is 161,412.

Average Hours per Response: 5 minutes.

Burden Hours: 13,451.

Needs and Uses: The U. S. Census Bureau is requesting an extension of the currently approved collection for the Survey of Housing Starts, Sales, and Completions, otherwise known as the Survey of Construction (SOC). The SOC is co-sponsored by the U.S. Census Bureau and the U.S. Department of Housing and Urban Development (HUD).

Government agencies and private companies use statistics from SOC to monitor and evaluate the large and dynamic housing construction industry. Data for two principal economic indicators are produced from the SOC: New Residential Construction (housing starts and housing completions) and New Residential Sales. In addition, a number of other statistical series are produced, including extensive information on the physical characteristics of new residential buildings, and indexes measuring rates of inflation in the price of new buildings. These statistics are based on a sample of residential buildings in permit-issuing places and a road canvass in a sample of land areas not covered by building permit systems.

Census Bureau field representatives (FRs) mail forms to new respondents to complete. A few days later, the FRs either call or visit the respondents to enter their survey responses into a laptop computer using Computer Assisted Personal Interviewing (CAPI) software. The respondents are home builders, real estate agents, rental agents, or new homeowners of sampled residential buildings. FRs contact respondents multiple times based on the number of projects in the sample and the number of months required to complete the project.

The Census Bureau uses the information collected in the SOC to publish estimates of the number of new residential housing units started, under construction, completed, and the number of new houses sold and for sale. The Census Bureau also publishes many financial and physical characteristics of new housing units. Government agencies use these statistics to evaluate economic policy, measure progress towards the national housing goal, make policy decisions, and formulate legislation. For example, the Board of Governors of the Federal Reserve System uses data from this survey to evaluate the effect of interest rates. The Bureau of Economic Analysis uses the data in developing the Gross Domestic Product (GDP). The private sector uses the information for estimating the demand for building materials and the many products used in new housing and to schedule production, distribution, and sales efforts. The financial community uses the data to estimate the demand for short-term (construction loans) and long-term (mortgages) borrowing.

Frequency: Monthly.

Respondent's Obligation: Voluntary.

Legal Authority: The Census Bureau is authorized under title 13, United States Code, sections 131 and 182 to collect information, and under title 13 section 8(b) to perform survey work for other agencies, including HUD. HUD is authorized under title 12 U.S.C., sections 1701z-1 and 1701z-2g to collect or obtain information on new residential buildings.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0607-0110.

Sheleen Dumas,
Department PRA Clearance Officer, Office of the Under Secretary for Economic Affairs, Commerce Department.

[FR Doc. 2023-27729 Filed 12-15-23; 8:45 am]

BILLING CODE 3510-07-P